DEPARTMENT OF HEALTH AND HUMAN SERVICES

Food and Drug Administration; Delegation of Authorities

Notice is hereby given that I have delegated to the Commissioner, Food and Drug Administration (FDA), with authority to re-delegate, the authorities vested in the Secretary of the Department of Health and Human Services under the Drug Quality and Security Act (DQSA), Public Law 113-54, insofar as these authorities pertain to the functions and operations of FDA. This delegation includes, but is not limited to, authority to communicate with state Boards of Pharmacy under Section 105 of the DQSA.

This delegation shall be exercised in accordance with the Department's applicable policies, procedures, and guidelines.

I hereby affirm and ratify any actions taken by the Commissioner, FDA, or other FDA officials that involved the exercise of these authorities prior to the effective date of this delegation.

This delegation of authorities is effective upon date of signature.

Authority: 44 U.S.C. 3101.

Dated: April 11, 2014.
Kathleen Sebelius,
Secretary.

[FR Doc. 2014-09033 Filed 4-21-14; 8:45 am]

BILLING CODE 4160-01-P